NATIONAL SCIENCE FOUNDATION

Advisory Committee for International Science and Engineering; Notice of Meeting

In accordance with the Federal Advisory Committee Act (Pub. L. 92-463, as amended), the National Science Foundation announces the following meeting:

Name: Advisory Committee for International Science and Engineering (25104).

Date/Time:

March 14, 2013 9:30 a.m.-5:00 p.m.

March 15, 2013 8:30 a.m.-12:30 p.m.

Place: National Science Foundation, Stafford II, Room 1155, Arlington, VA 22230. If you are attending the meeting and need access to the NSF, please contact the individual listed below so your name may be added to the building access list.

Type of Meeting: Open.

Contact Person: Robert Webber, Office of International Science and Engineering, National Science Foundation, 4201 Wilson Blvd., Arlington, VA 22230 Telephone: 703/292-8569

Purpose of Meeting: To provide advice and recommendation concerning support for the research, education, and related activities involving the U.S. science and engineering community working in a global context, as well as strategic efforts to promote a more effective NSF role in international science and engineering.

Agenda:

International Activities across NSF and Beyond.

Disciplinary International Activities.

Meetings with NSF Senior Management.

Dated: February 22, 2013.
Susanne Bolton,
Committee Management Officer.

[FR Doc. 2013-04541 Filed 2-26-13; 8:45 am]

BILLING CODE 7555-01-P